DEPARTMENT OF COMMERCE

National Oceanic and Atmospheric Administration

[I.D. 022301D]

Marine Mammals; File No. 116-1591

AGENCY: National Marine Fisheries Service (NMFS), National Oceanic and Atmospheric Administration (NOAA), Commerce.

ACTION: Issuance of permit.

SUMMARY: Notice is hereby given that Sea World, Inc., 7007 Sea World Drive, Orlando, FL 32821, has been issued a permit to import one killer whale (Orcinus orca) for purposes of public display.

ADDRESSES: The permit and related documents are available for review upon written request or by appointment in the following office(s):

Permits and Documentation Division, Office of Protected Resources, NMFS, 1315 East-West Highway, Room 13705, Silver Spring, MD 20910 (301/713-2289);

Regional Administrator, Southwest Region, NMFS, 501 West Ocean Boulevard, Suite 4200, Long Beach, CA 90802, (562/980-4000);

FOR FURTHER INFORMATION CONTACT: Amy Sloan, (301/713-2289).

SUPPLEMENTARY INFORMATION: On December 5, 2000, notice was published in the Federal Register (65 FR 75924) that a request for a public display permit to import one adult female killer whale (Orcinus orca) had been submitted by the above-named organization. The requested permit has been issued under the authority of the Marine Mammal Protection Act of 1972, as amended (16 U.S.C. 1361 et seq.), and the Regulations Governing the Taking and Importing of Marine Mammals (50 CFR part 216).

Dated: March 8, 2001.
Ann D. Terbush,
Chief, Permits and Documentation Division, Office of Protected Resources, National Marine Fisheries Service.

[FR Doc. 01-6349 Filed 3-13-01; 8:45 am]

BILLING CODE 3510-22-S